DEPARTMENT OF ENERGY

Federal Energy Regulatory Commission

[ Project No. 1390-005]

Southern California Edison; Notice of Meeting To Discuss Settlement Negotiations

January 9, 2004.

a. Date and Time of Meeting: January 21, 2004, 10 a.m. to 12 p.m. P.s.t.

b. Place: U.S. Forest Service, Mono Basin Scenic Area Visitor Center, Lee Vining, California, ½ mile north of the Town of Lee Vining on Highway 395.

c. Teleconference: To participate by teleconference please call 760-647-3043 or contact Jim Canaday, California State Water Resources Control Board, at 916-341-5308.

d. FERC Contact: John Smith at (202) 502-8972; John.Smith@FERC.gov.

e. Purpose of the Meeting: The U.S. Forest Service on behalf of itself and other stakeholders have requested a meeting with Commission staff to discuss the progress of ongoing settlement negotiations regarding minimum flows at the Lundy Hydroelectric Project No. 1390.

f. Proposed Agenda: (1) Introduction of participants, (2) settlement group presentation to Commission staff on status of negotiations, (3) discussion, and (5) close of meeting.

g. All local, State, and Federal agencies, Indian Tribes, and interested parties, are hereby invited to attend this meeting as participants.

Magalie R. Salas,
Secretary.

[FR Doc. E4-75 Filed 01-15-04; 8:45 am

BILLING CODE 6717-01-P